DEPARTMENT OF TRANSPORTATION

Federal Aviation Administration

Aviation Rulemaking Advisory Committee; Transport Airplane and Engine Issues—New Task

AGENCY: Federal Aviation Administration (FAA), DOT.

ACTION: Notice of new task assignment for the Aviation Rulemaking Advisory Committee (ARAC).

SUMMARY: The FAA assigned the Aviation Rulemaking Advisory Committee a new task to develop recommendations updating methods to determine load intensities and flight loads validations. This notice is to inform the public of this ARAC activity.

FOR FURTHER INFORMATION CONTACT: John McGraw, Federal Aviation Administration, Northwest Mountain Region Headquarters, 1601 Lind Avenue, SW., Renton, Washington, 98055, (425) 227-2111, john.mcgraw@faa.gov

SUPPLEMENTARY INFORMATION:

Background

The FAA established the Aviation Rulemaking Advisory Committee to provide advice and recommendations to the FAA Administrator on the FAA's rulemaking activities with respect to aviation-related issues. This includes obtaining advice and recommendations on the FAA's commitments to harmonize Title 14 of the Code of Federal Regulations (14 CFR) with its partners in Europe and Canada.

The Task

• Review § 25.301 and JAR 25.301 for adequacy in addressing the issue of validation of flight load intensities and distribution. This review should include the consideration of:

1. FAA Advisory Circular (AC) 25-14, “High Lift and Drag Devices;”

2. Relevant FAA issue papers and their implementation;

3. JAA Certification Review Items (CRI) addressing flight loads validation.

• Develop a report recommending any revision to the rules (including cost estimates) and any advisory materials needed to address the above issues.

Schedule: This task is to be accomplished no later than June 28, 2002.

ARAC Acceptance of Task

ARAC accepted the task and assigned the task to the General Structures Harmonization Working Group, Transport Airplane and Engine Issues. The working group serves as staff to ARAC and assists in the analysis of assigned task. ARAC must review and approve the working groups recommendations. If ARAC accepts the working group's recommendations, it will forward them to the FAA.

Working Group Activity

The General Structures Harmonization Working Group is expected to comply with the procedures adopted by ARAC. As part of the procedures, the working group is expected to:

1. Recommend a work plan for completion of the task, including the rationale supporting such a plan, for consideration at the next meeting of the ARAC on Transport Airplane and Engine Issues held following publication of this notice.

2. Give a detail conceptual presentation of the proposed recommendations prior to proceeding with the work stated in item 3 below.

3. Draft the appropriate documents and required analyses and/or any other related materials or documents.

4. Provide a status report at each meeting of the ARAC held to consider transport airplanes and engine issues.

Participation in the Working Group

The General Structures Harmonization Working Group is composed of technical experts having an interest in the assigned task. A working group member need not be a representative or a member of the full committee.

An individual who has expertise in the subject matter and wishes to become a member of the working group should write to the person listed under the caption FOR FURTHER INFORMATION CONTACT expressing that desire, describing his or her interest in the task, and stating the expertise he or she would bring to the working group co-chairs. Individuals will be advised whether or not their request can be accommodated.

Individuals chose for membership on the working group will be expected to represent their aviation community segment and actively participate in the working group (e.g., attend all meetings, provide written comments when requested to do so, etc.). They also will be expected to devote the resources necessary to support the working group in meeting any assigned deadline. Members are expected to keep their management chain and those they may represent advised of working group activities and decisions to ensure that the proposed technical solutions do not conflict with their sponsoring organization's position when the subject being negotiated is presented to ARAC for approval.

Once the working group has begun deliberations, members will not be added or substituted without the approval of the assistant chair, the assistant executive director, and the working group co-chairs.

The Secretary of Transportation determined that the formation and use of the ARAC is necessary and in the public interest in connection with the performance of duties imposed on the FAA by law.

Meetings of the ARAC will be open to the public. Meetings of the General Structures Harmonization Working Group will not be open to the public, except to the extent that individuals with an interest and expertise are selected to participate. The FAA will make no public announcement of working group meetings.

Issued in Washington, DC, on June 5, 2001.
Brenda D. Courtney,
Acting Executive Director, Aviation Rulemaking Advisory Committee.

[FR Doc. 01-14659 Filed 6-8-01; 8:45 am]

BILLING CODE 4910-13-M